NUCLEAR REGULATORY COMMISSION

[Docket No. 40-9083; NRC-2009-0352]

License No. SUB-459; Acknowledgement of Request for Enforcement Action Against U.S. Army Installation Command (Schofield Barracks and Pohakuloa Training Area, Hawaii)

Notice is hereby given that by petition dated March 4, 2010, Isaac D. Harp (petitioner) has requested that the U.S. Nuclear Regulatory Commission (NRC) take enforcement action against the U.S. Army for the unlicensed possession and use of depleted uranium.

As the basis for this request, the petitioner states that the Army's license, SUB-459, expired on October 31, 1964, and if any depleted uranium was possessed or released to the environment after the expiration date, that was an unlawful act and subject to NRC enforcement policies.

The request is being treated pursuant to 10 CFR 2.206 of the Commission's regulations. The request has been referred to the Director of the Office of Federal and State Materials and Environmental Management Programs (FSME). As provided by Section 2.206, the petitioner met with the FSME petition review board on April 14, 2010, to discuss the petition. The results of that discussion were considered in the board's determination regarding the petitioner's request and in establishing the schedule for the review of the petition.

A copy of the request is available in ADAMS (ML100640665) for inspection at the Commission's Public Document Room, located at One White Flint North, 11555 Rockville Pike (first floor), Rockville, Maryland, and from the ADAMS Public Library component on the NRC's Web site, http://www.nrc.gov (the Public Electronic Reading Room).

Dated at Rockville, Maryland this 26th day of April, 2010.
For the U.S. Nuclear Regulatory Commission.
Keith I. McConnell,
Deputy Director, Decommissioning and Uranium Recovery Licensing Directorate, Division of Waste Management and Environmental Protection Program, Office of Federal and State Materials and Environmental Management Programs.

[FR Doc. 2010-10555 Filed 5-4-10; 8:45 am]

BILLING CODE 7590-01-P